ENVIRONMENTAL PROTECTION AGENCY

40 CFR Part 300

[EPA-HQ-SFUND-1983-0002; FRL-9910-41-OSWER]

National Oil and Hazardous Substances Pollution Contingency Plan; National Priorities List

AGENCY: Environmental Protection Agency (EPA).

ACTION: Withdrawal of Direct Final Rule.

SUMMARY: On March 12, 2014, EPA published a Notice of Intent to Delete (79 FR 13967) and a direct final Notice of Deletion (79 FR 13882) for the O'Connor Superfund Site from the National Priorities List. The EPA is withdrawing the Final Notice of Deletion due to adverse comments that were received during the public comment period. After consideration of the comments received, if appropriate, EPA will publish a Notice of Deletion in the Federal Register based on the parallel Notice of Intent to Delete and place a copy of the final deletion package, including a Responsiveness Summary, if prepared, in the Site repositories.

DATES: This withdrawal of the direct final action published March 12, 2014 (79 FR 13882) is effective as of May 2, 2014.

ADDRESSES: Information Repositories: Comprehensive information on the Site, as well as the comments that we received during the comment period, are available in docket [EPA-HQ-SFUND-1983-0002; FRL-9907-65-Region 1], accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy at:

U.S. EPA Region 1, 5 Post Office Square, Suite 100, Boston, MA 02109-3912, Monday-Friday 8:00 a.m.-5:00 p.m.

Lithgow Public Library, 45 Winthrop Street, Augusta, Maine 04330, Mon-Thurs 9:00 a.m.-8 p.m., Friday 9:00 a.m.-5 p.m., and Saturday 9:00 a.m.-12:00 p.m.

FOR FURTHER INFORMATION CONTACT: Terrence Connelly, Remedial Project Manager, U.S. Environmental Protection Agency, Region 1, Mailcode OSRR07-1, 5 Post Office Square, Boston, MA 02109-3912, (617) 918-1373, email: connelly.terry@epa.gov.

SUPPLEMENTARY INFORMATION:

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: April 24, 2014.
H. Curtis Spalding,
Regional Administrator Region 1.

Accordingly, the amendment to Table 1 of Appendix B to Part 300 to remove the entry “ME”, “O'Connor Superfund Site”, “Augusta/Kennebec County” is withdrawn as of May 2, 2014.

[FR Doc. 2014-10109 Filed 5-1-14; 8:45 am]

BILLING CODE 6560-50-P